FEDERAL COMMUNICATIONS COMMISSION

[ET Docket No. 21-352; FCC 21-100; FR ID 53409]

FCC Requests 6 GHz Automated Frequency Coordination Proposals

AGENCY: Federal Communications Commission.

ACTION: Notice.

SUMMARY: In this document, the Commission begins the process of authorizing standard power unlicensed operations in the 6 GHz band by inviting proposals from parties interested in operating an automated frequency coordination (AFC) system in accordance with the 6 GHz Report and Order. This Public Notice summarizes the requirements for AFC systems as set forth in that order, describes the information that must be provided with proposals to operate an AFC system, and describes the procedures for designating AFC system operators.

DATES: Initial AFC system proposals are due on November 30, 2021, and comments regarding the proposals are due on December 21, 2021.

ADDRESSES: Federal Communications Commission, 45 L Street NE, Washington, DC 20554.

FOR FURTHER INFORMATION CONTACT: Nicholas Oros, Office of Engineering and Technology, 202-418-0636, Nicholas.Oros@fcc.gov.

SUPPLEMENTARY INFORMATION: This is a summary of the Commission's document, Public Notice, FCC 21-100, ET Docket No. 21-352, released September 28, 2021. The full text of this document is available for public inspection and can be downloaded at: https://www.fcc.gov/document/fcc-requests-6-ghz-automated-frequency-coordination-proposals or by using the search function for ET Docket No. 21-352 on the Commission's ECFS web page at www.fcc.gov/ecfs. People with Disabilities. To request materials in accessible formats for people with disabilities (Braille, large print, electronic files, audio format), send an email to fcc504@fcc.gov or call the Consumer and Governmental Affairs Bureau at (202) 418-0530 (voice), (202) 418-0432 (TTY).

Synopsis

1. The 6 GHz Report and Order (FCC 20-51; 35 FCC Rcd 3852 (2020); 85 FR 31390 (May, 26 2020)) authorized two different types of unlicensed operations—standard-power and indoor low-power operations. Standard-power operations, which encompass standard-power access points and fixed client devices (collectively referred to as standard-power devices in this Public Notice), are permitted in the 5.925-6.425 GHz and 6.525-6.875 GHz portions of the 6 GHz band and must operate under the control of an automated frequency coordination (AFC) system to prevent harmful interference to fixed microwave links that operate in the band. The standard-power devices are required to have a geo-location capability and, at least once per day, must communicate their location to an AFC system, which will provide them with the frequencies and maximum power levels at which they may operate without causing harmful interference to any microwave links. The AFC system will also prevent operation of standard-power devices in the 6.6500-6.6752 GHz band near a limited number of radio astronomy observatories.

Expanded Unlicensed Use of the 6 Gigahertz Band
Device class | Operating bands | Maximum EIRP | Maximum EIRP power spectral density
Standard-Power Access Point (AFC Controlled) Fixed Client (AFC Controlled) | U-NII-5 (5.925-6.425 GHz) U-NII-7 (6.525-6.875 GHz) | 36 dBm 36 dBm | 23 dBm/MHz. 23 dBm/MHz.
Client Connected to Standard-Power Access Point |  | 30 dBm | 17 dBm/MHz.
Low-Power Access Point (indoor only) Client Connected to Low-Power Access Point | U-NII-5 (5.925-6.425 GHz) U-NII-6 (6.425-6.525 GHz) U-NII-7 (6.525-6.875 GHz) U-NII-8 (6.875-7.125 GHz) | 30 dBm 24 dBm | 5 dBm/MHz. −1 dBm/MHz.

2. The 6 GHz Report and Order specifies how the AFC systems will determine which frequencies are available for use by standard-power devices. Once per day each AFC system is required to access the Commission's Universal Licensing System (ULS) to obtain the most up-to-date information on licensed microwave links including their transmitter and receiver locations, frequencies, bandwidths, polarizations, transmitter EIRP, antenna height, and the make and model of the antenna and equipment used. The AFC systems will use this information, along with the propagation models specified in the 6 GHz Report and Order, to determine on which frequencies and at what power levels standard-power devices may operate. In making this determination, the AFC systems will ensure that the predicted interference-to-noise (I/N) ratio at any microwave receiver does not exceed −6 dB. The AFC systems must be capable of determining frequency availability for the standard-power device at the maximum permitted EIRP of 36 dBm and also at power levels as low as 21 dBm.

3. Section 15.407(l)(1) of the Commission's rules specifies the propagation model the AFC system must use for determining frequency availability and power levels, which depends on the distance between the standard-power device and the licensed microwave station. For separation distances of 30 meters or less, the AFC system will use a free space pathloss model. When the separation distance is greater than 30 meters, but less than 1 kilometer, the AFC system will use the WINNER II model. The WINNER II model is one of the most widely used and well‐known channel models in the world and was developed from measurements conducted by the WINNER organization, as well as results from academic literature. When using the WINNER II model, the AFC system should use site-specific information, including building and terrain data, for determining the line-of-sight/non-line-of-sight path component where this information is available. For evaluating paths where this data is not available, the rules specify probabilistic combining of the line-of-sight and non-line-of-sight path into a single path-loss. For distances greater than 1 kilometer, the AFC system will use the Irregular Terrain Model (ITM) combined with a clutter model for the local environment. The ITM has been widely available and accepted since the early 1980s, has been used by the Commission for interference prediction in other proceedings, and is the propagation model currently used to determine spectrum availability by the spectrum access systems (SAS) that are managing spectrum access for the 3550-3700 MHz band in the Citizens Broadband Radio Service. When using the ITM, the rules specify that AFC systems are to use 1 arc-second digital elevation terrain data and, for locations where such data is not available, use the most granular digital elevation terrain data available. To account for the effects of clutter, such as from buildings and foliage, the AFC system should combine use of the ITM with statistical clutter model ITU-R P.2108 for urban and suburban environments and the ITU-R P.452-16 clutter model for rural environments.

4. In accordance with the 6 GHz Report and Order, the Office of Engineering and Technology (OET) can designate one or more AFC system operators. AFC system operators will be required to serve for a five-year term which can be renewed by the Commission based on the operator's performance during the term. If an AFC system operator discontinues service or its term is not renewed, it must transfer its database along with the information necessary to access the database to another designated AFC system operator. AFC system operators are permitted to charge a fee for providing service to standard-power access devices.

I. AFC Proposals and Approval Process

5. As specified in the 6 GHz Report and Order, OET will follow a multistep process to approve AFC systems in which each prospective AFC system operator must demonstrate its ability to perform the required functions pursuant to the Commission's 6 GHz unlicensed rules. The Commission requests that parties interested in becoming an AFC system operator as part of the initial evaluation process submit their proposals no later than November 30, 2021. The public will then have an opportunity to review and comment on these proposals, including on each prospective operator's fitness to operate an AFC system as well as the technical and operational description of each proposed AFC system. Comments on these proposals must be submitted by December 21, 2021. OET will review all proposals submitted by November 30, 2021 concurrently and with equal priority. Proposals submitted after this date will be considered by OET, but they may not be considered concurrently with proposals submitted by November 30, 2021. For any proposal received after November 30, 2021, OET will issue a public notice announcing receipt of the proposal and establishing a period for the public to review and comment on the proposal. Proposals will not be considered mutually exclusive and OET will conditionally approve as many proposals as are found to satisfy all AFC system requirements.

6. Applicants who receive a conditional approval will then be required to allow access to their AFC system for a public trial period to provide interested parties an opportunity to check that it provides accurate results. This trial period will include thorough testing, both in a controlled environment (e.g., lab testing) and through demonstration projects (e.g., field testing). OET may also require prospective AFC system operators to attend workshops and meetings as part of the assessment process. Prospective AFC system operators must comply with all instructions from OET and must provide any requested information in a timely manner.

7. The AFC system proposals must describe how the prospective AFC system operator will comply with the requirements and core functions described in § 15.407(k) of the Commission's rules and the 6 GHz Report and Order. To demonstrate compliance, the Commission expects the proposal to include, for example:

1. AFC system operator contact information, including name, phone number and email address that Commission staff may use for all AFC system related inquiries, such as information and data requests or to provide enforcement instructions.

2. A technical diagram showing the architecture of the AFC system with a brief description of its operation.

3. A description of whether the AFC system software is based on a propriety implementation or open source.

4. A demonstration that the prospective AFC system operator possesses sufficient technical expertise to operate an AFC system.

5. A description of the prospective AFC system operator's recordkeeping policies, including registration record retention as well as retention of historical frequency availability data.

6. A description of how the prospective AFC system operator will handle unanticipated situations that may disrupt performance of the system's required functions—ranging from exceptional cases that affect the system's ability to perform its required functions in isolated instances to cases involving the type of widespread disruption that an event like a system failure might cause.

7. A description of the methods (e.g., interfaces, protocols) that will be used for secure communication between the AFC system and its associated standard-power devices and to ensure that unauthorized parties cannot access or alter the database or the list of available frequencies and power levels sent to the standard-power devices.

8. If the prospective AFC system operator will not be performing all AFC functions, information on (1) the entities that will be responsible for operating other functions of the AFC system; and (2) how the Commission can ensure that all of the requirements for AFC systems in the rules are satisfied when AFC functions are divided among multiple entities.

9. A description of how the prospective AFC system operator will provide access to their AFC system for a public trial period which will include thorough testing.

10. An affirmation that the prospective AFC system operator, and any entities responsible for operating other functions of the AFC system under the control of the AFC system operator, will comply with all of the applicable rules as well as applicable enforcement mechanisms and procedures.

8. Prospective AFC system operators must file proposals, and any supplements thereto, with the Commission using the Commission's Electronic Comment Filing System (ECFS). See Electronic Filing of Documents in Rulemaking Proceedings, 63 FR 24121 (1998). To be considered concurrently with the other initial proposals, proposals must be filed on or before the date indicated on the first page of this Public Notice. Prospective AFC system operators may request confidential treatment of information contained in their proposals consistent with § 0.459 of the Commission's rules. Comments regarding the AFC system proposals should also be filed using ECFS by the dates indicated on the first page of this Public Notice. All such filings should refer to ET Docket 21-352.

9. Congressional Review Act. The Commission has determined and Administrator of the Office of Information and Regulatory Affairs, Office of Management and Budget, concurs, that this rule is “non-major” under the Congressional Review Act, 5. U.S.C. 804(2). The Commission will send a copy of this Public Notice to Congress and the Government Accountability Office pursuant to 5 U.S.C. 801(a)(1)(A).

Federal Communications Commission.
Marlene Dortch,
Secretary.

[FR Doc. 2021-22765 Filed 10-20-21; 8:45 am]

BILLING CODE 6712-01-P